DEPARTMENT OF ENERGY

Western Area Power Administration

Pick-Sloan Missouri Basin Program—Eastern Division—2021 Power Marketing Initiative Proposal

AGENCY: Western Area Power Administration, DOE.

ACTION: Notice of proposed 2021 Power Marketing Initiative.

SUMMARY: Western Area Power Administration (Western), Upper Great Plains Region, a Federal power marketing agency of the Department of Energy (DOE) is seeking comments on this proposed 2021 Power Marketing Initiative (2021 PMI). Western's Firm Electric Service (FES) contracts associated with the current marketing plan will expire on December 31, 2020. This proposed 2021 PMI provides the basis for marketing the long-term firm hydroelectric resources of the Pick-Sloan Missouri Basin Program—Eastern Division (P-SMBP—ED) beyond the year 2020. The 2021 PMI proposes to extend the current marketing plan, with amendments, to key marketing plan principles. This Federal Register notice initiates Western's public process for the proposed 2021 PMI and requests public comments. Western will prepare and publish the final 2021 PMI in the Federal Register after all public comments on the proposed 2021 PMI are considered.

DATES: Entities interested in commenting on the proposed 2021 PMI must submit written comments to Western's Upper Great Plains Regional Office. Western must receive written comments by 4 p.m., MDT, on May 4, 2011. Western reserves the right to not consider any comments that are received after the prescribed date and time.

Western will hold public information forums (not to exceed 2 hours) and public comment forums (immediately following the information forums) on this proposed 2021 PMI.

The public information and public comment forum dates and times are:

1. April 13, 2011, 8:30 a.m., CDT, Lincoln, Nebraska.

2. April 14, 2011, 8:30 a.m., CDT, Sioux Falls, South Dakota.

3. April 20, 2011, 8:30 a.m., CDT, Bismarck, North Dakota.

ADDRESSES: Submit written comments regarding this proposed 2021 PMI to Robert J. Harris, Regional Manager, Upper Great Plains Region, Western Area Power Administration, 2900 4th Avenue North, Billings, MT 59101-1266. Comments may also be faxed to (406) 255-2900 or e-mailed to UGP2021@wapa.gov.

The public information and comment forum locations are:

1. Lincoln—Holiday Inn, 141 North 9th Street, Lincoln, Nebraska.

2. Sioux Falls—Holiday Inn, 100 West 8th Street, Sioux Falls, South Dakota.

3. Bismarck—Best Western Ramkota Hotel, 800 South 3rd Street, Bismarck, North Dakota.

FOR FURTHER INFORMATION CONTACT: John A. Pankratz, Public Utilities Specialist, Upper Great Plains Region, Western Area Power Administration, 2900 4th Avenue North, Billings, MT 59101-1266, telephone (406) 255-2932, e-mail UGP2021@wapa.gov.

SUPPLEMENTARY INFORMATION:

Current Marketing Plan Background

The 1985 P-SMBP—ED Marketing Plan (1985 Plan) was published in the Federal Register (45 FR 71860, October 30, 1980) and provided the marketing plan principles used to market P-SMBP—ED firm hydropower resources. The FES contracts associated with the 1985 Plan were initially set to expire December 31, 2000. The Energy Planning and Management Program (EPAMP) final rule published in the Federal Register (60 FR 54151, October 20, 1995) Subpart C extended and amended the 1985 Plan. EPAMP extended the FES contracts associated with the 1985 Plan through December 31, 2020, and established the Post-2000, Post-2005, and the Post-2010 power marketing initiatives. The current Marketing Plan is inclusive of the 1985 Plan as extended and amended by EPAMP and the Post-2000, Post-2005, and Post-2010 power marketing initiatives.

2021 PMI Proposal Background

Western initiated 2021 PMI discussions with P-SMBP—ED firm power customers in November of 2010, by hosting meetings throughout the Upper Great Plains Region. In addition, Western hosted Native American-focused meetings throughout the Upper Great Plains Region to initiate government-to-government consultation with tribal firm power customers. The meetings provided customers the opportunity to review current Marketing Plan principles and provide informal input to Western for consideration in this 2021 PMI proposal. Key Marketing Plan principles discussed with firm power customers included: Contract Term; Resource Pools; Marketable Resource; Marketing Area; Load Factor Limit and Withdrawal Provisions; and Marketing Future Resources.

Western requested informal input from firm power customers for consideration in this 2021 PMI proposal. Customer input for the 2021 PMI supported Western extending the current Marketing Plan with amendments to the Contract Term and Resource Pools principles.

2021 PMI Proposal

Western's 2021 PMI proposes to extend the current Marketing Plan with amendments to the Contract Term and Resource Pools principles. The Marketing Plan principles that are proposed to be amended as well as the Marketing Plan principles that are proposed to be extended are as follows:

Amended Marketing Plan Principles:

1. Contract Term: A 30-year term contract term would be used for FES contracts. The FES contract term would begin January 1, 2021, and expire December 31, 2050.

2. Resource Pools: The 2021 PMI would provide for resource pools of up to 1 percent of the marketable resource under contract at the time for eligible new preference entities at the beginning of the contract term (January 1, 2021) and again every 10 years (January 1, 2031, and January 1, 2041).

Extended Marketing Plan Principles:

Extension of the current Marketing Plan includes all provisions and principles not specifically addressed in the preceding section (Amended Marketing Plan Principles). The following key principles were discussed with the firm power customers during the informal customer input phase of this process and are included below for reference purposes.

1. Marketable Resource: Based on adverse condition modeling to determine future marketable resource capability and median annual energy forecasting to determine future annual energy, the proposed 2021 PMI supports extending the existing contract rates of delivery commitments, with associated energy, to existing long-term firm power customers reduced by up to 1 percent for each new resource pool in 2021, 2031, and 2041.

2. Marketing Area: The marketing area of the P-SMBP—ED is Montana (east of the Continental Divide), all of North Dakota and South Dakota, Nebraska east of the 101º meridian, Iowa west of the 94½° meridian, and Minnesota west of a line on the 94½° meridian from the southern boundary of the state to the 46º parallel and then northwesterly to the northern boundary of the state at the 96½° meridian.

3. Load Factor Limit and Withdrawal Provisions:

a. Load Factor Limit: Western would market firm power at its customers' monthly system load factor for as long as possible. Western would reserve the right to limit monthly load factors to 70 percent if necessary during the 2021 PMI contract term. A 3-year notice would be given prior to requiring such limitation.

b. Project Use Withdrawal Provision: Western would reserve the right to reduce a customer's summer season contract rate of delivery by up to 5 percent for new project use requirements, by giving a minimum of 5 years' written notice in advance of such action.

c. Hydrology and River Operations Withdrawal Provision: Western, at its discretion and sole determination, would reserve the right to adjust the contract rate of delivery on 5 years' written notice in response to changes in hydrology and river operations. Any such adjustments would only take place after a public process by Western.

4. Marketing Future Resources: Additional power resources may become available for various reasons. Any additional available resources would be used in accordance with EPAMP as specified in 10 CFR 905.32 (e).

Availability of Information

Documents developed or retained by Western in the 2021 PMI formal public process will be available for inspection and copying at the Upper Great Plains Regional Office, located at 2900 4th Avenue North, Billings, Montana. Western will post information about the 2021 PMI on its Web site at http://www.wapa.gov/ugp/powermarketing/2021PMI.htm. Written comments received as part of the 2021 PMI formal public process will be available for viewing on the Web site.

2021 PMI Procedures Requirements

Environmental Compliance

Western's 2021 PMI will comply with the National Environmental Policy Act (NEPA) of 1969 (42 U.S.C. 4321-4347), the Council on Environmental Quality (CEQ) regulations for implementing the procedural provisions of NEPA (40 CFR parts 1500-1508), and DOE NEPA implementing procedures (10 CFR 1021).

Dated: February 23, 2011.
Timothy J. Meeks,
Administrator.

[FR Doc. 2011-4605 Filed 3-3-11; 8:45 am]

BILLING CODE 6450-01-P